DEPARTMENT OF ENERGY

Federal Energy Regulatory Commission

[Docket No. PF07-4-000]

Midcontinent Express Pipeline, LLC; Supplemental Notice of Intent To Prepare an Environmental Impact Statement for the Proposed Midcontinent Express Project, Request for Comments on Environmental Issues, and Notice of Public Site Visit

August 14, 2007.

The staff of the Federal Energy Regulatory Commission (FERC or Commission) will prepare an environmental impact statement (EIS) that will identify and address the environmental impacts that could result from the construction and operation of the Midcontinent Express Pipeline Project (Project) proposed by Midcontinent Express Pipeline, LLC (MEP). On June 25, 2007, MEP filed draft Resource Reports that identified a modification to the Project in Richland and Madison Parishes, Louisiana, consisting of an approximately 4.2-mile-long lateral pipeline (CenterPoint Lateral). MEP subsequently filed additional information clarifying the location of the Project facilities associated with the CenterPoint Lateral on August 3, 2007.

On April 27, 2007, the FERC issued a “Notice of Intent To Prepare an Environmental Impact Statement for the Proposed Midcontinent Express Pipeline Project, Request for Comments on Environmental Issues and Notice of Public Scoping Meetings” (NOI). The NOI was published in the Federal Register and was also mailed to interested parties, including Federal, state and local officials, agency representatives, conservation organizations; Native American groups; local libraries and newspapers; and property owners affected by the proposed facilities. This notice is being issued because the CenterPoint Lateral was not identified in the NOI, and landowners potentially affected by that facility were therefore not included on the environmental mailing list for that correspondence.

In order to assist staff with the identification of environmental issues associated with the modified facilities and to comply with the requirements of the National Environmental Policy Act of 1969 (NEPA), a 30-day scoping period has been opened to receive comments on the proposed Project, as modified by the addition of the CenterPoint Lateral. Please note that the scoping period for this project will close on September 10, 2007.

Comments on the Project and the issues that should be addressed in the EIS may be submitted in written form. Further details on how to submit written comments are provided in the Public Participation section of this notice. Additionally, as part of the scoping process, we will sponsor a public site visit of the proposed CenterPoint Lateral, as described below. Please note that attendees at the site visit must obtain their own transportation for the site visit.

Date and time | Location
Tuesday, August 28, 2007, 9 am (CST) | Delhi Municipal Airport (parking lot), Airport Road/Louisiana Highway 17, Delhi, Louisiana 71232

This notice is being sent to landowners affected by the CenterPoint Lateral, as well as those that previously requested to remain on the Project environmental mailing list; federal, state, and local government agencies; elected officials; environmental and public interest groups; Native American tribes; other interested parties; and local libraries and newspapers; all of which are encouraged to submit comments on the proposed Project. Details on how to submit comments are provided in the Public Participation section of this notice.

If you are a landowner receiving this notice, you may be contacted by an MEP representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (www.ferc.gov). This fact sheet addresses a number of typically asked questions, including the use of eminent domain and how to participate in the FERC's proceedings.

Summary of the Proposed Project

MEP proposes to construct, own and operate approximately 495 miles of new 30-, 36-, and 42-inch-diameter interstate natural gas transmission pipeline, a total of approximately 111,720 horsepower (hp) of compression at one booster and four new mainline compressor stations, and related appurtenant facilities located in portions of Oklahoma, northeast Texas, northern Louisiana, central Mississippi, and Alabama. The proposed pipeline route identified by MEP would extend from a receipt point with existing pipeline infrastructure near Bennington in Bryan County, Oklahoma, to an interconnect with the existing Transcontinental Gas Pipe Line Corporation system near Butler in Choctaw County, Alabama. The general location of the proposed pipeline is shown in the figure included as Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to MEP.

In addition, as part of the Midcontinent Express Pipeline Project, MEP proposes to construct, own, and operate the approximately 4.2-mile-long, 16-inch-diameter CenterPoint Lateral in Richland and Madison Parishes, Louisiana.

Specifically, the MEP Project facilities under FERC jurisdiction would include the following:

• Approximately 40 miles of 30-inch-diameter pipeline in Bryan County, Oklahoma, and Lamar County, Texas;

• Approximately 262 miles of 42-inch-diameter pipeline in Lamar, Red River, Franklin, Titus, Morris, and Cass Counties, Texas, and Caddo, Bossier, Webster, Claiborne, Lincoln, Union, Ouachita, Morehouse, Richland, and Madison Parishes, Louisiana;

• Approximately 193 miles of 36-inch-diameter pipeline in Madison Parish, Louisiana, and Warren, Hinds, Rankin, Simpson, Smith, Jasper, and Clarke Counties, Mississippi, and Choctaw County, Alabama;

• The newly proposed, approximately 4.2-mile-long, 16-inch-diameter lateral pipeline, which would extend from an interconnect with the Project mainline pipeline in Madison Parish, Louisiana, to the Delhi Booster Station and an interconnect with a CenterPoint Energy Gas Transmission Company pipeline in Richland Parish, Louisiana;

• Four new mainline and one booster, natural gas-fired compressor stations, including:

—The 38,555-hp Lamar Compressor Station at Milepost (MP) TX 28.5 in Lamar County, Texas;

—The 12,270-hp Atlanta Compressor Station at MP TX 117.4 in Cass County, Texas;

—The 32,720-hp Perryville Compressor Station at MP LA 109.0 in Union Parish, Louisiana;

—The 18,405-hp Vicksburg Compressor Station at MP MS 11.8 in Warren County, Mississippi;

—The 9,470-hp Delhi Booster Station, which would be located along the CenterPoint Lateral in Richland Parish, Louisiana;

• Meter stations at up to 13 interconnects with existing pipeline infrastructure in Bryan County, Oklahoma; Lamar and Cass Counties, Texas; Ouachita, Richland, and Madison Parishes, Louisiana; Hinds, Smith, Jasper, and Clarke Counties, Mississippi; and Choctaw County, Alabama;

• Various pig ² launching and receiving facilities; and

² A pig is a mechanical tool used to clean and inspect the interior of a pipeline.

• 29 mainline valves.

MEP indicates that the proposed Project facilities would provide long-haul takeaway capacity to facilitate the transport of natural gas from production areas in Texas, Oklahoma, and Arkansas to markets in the Southeast, Northeast and Midwest regions of the United States that can be accessed through interconnects with existing pipeline infrastructure. The Project would consist of two capacity zones. The initial transport capacity of Zone 1, which would include the 30- and 42-inch-diameter portions of the pipeline facilities, would be 1.4 billion cubic feet of natural gas per day (Bcf/d). However, additional supporting contracts could provide for expansion of the Zone 1 transport capacity to 1.5 Bcf/d. Zone 2, which would include the balance of the pipeline facilities, would have an initial transport capacity of 1.0 Bcf/d, with the potential for expansion to 1.2 Bcf/d.

MEP proposes to place the first 40 miles of 30-inch-diameter pipeline in service by October 31, 2008, with the remainder of the pipeline constructed and operational by February 2009.

Land Requirements for Construction

As proposed, the typical construction right-of-way width for the 30-, 36-, and 42-inch-diameter sections of Project pipeline would be 100, 110, and 125 feet, respectively. The typical construction right-of-way width for the CenterPoint Lateral would be 75 feet. Following construction, MEP would generally retain a 50-foot-wide permanent right-of-way for operation of the Project, though MEP proposes to expand the maintained permanent right-of-way width to 60 feet in limited areas based on site-specific conditions. Additionally, temporary extra workspaces beyond the typical construction right-of-way limits would also be required at certain feature crossings (e.g., roads, railroads, wetlands, or waterbodies), in areas with steep side slopes, in association with special construction techniques, or at pipe storage and contractor yards. In residential areas, wetlands, and other sensitive areas, the construction right-of-way width would be reduced as necessary to protect homeowners and environmental resources. Following construction, all temporary workspaces (including the temporary construction rights-of-way and extra workspaces) would be restored and allowed to revert to its former use.

The EIS Process

NEPA requires the Commission to take into account the environmental impacts that could result from the approval of an interstate natural gas pipeline. The FERC will use the EIS to consider the environmental impact that could result if the Midcontinent Express Pipeline Project is authorized under Section 7 of the Natural Gas Act.

NEPA also requires us to discover and address concerns the public may have about proposals to be considered by the Commission. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction and operation of the proposed project under these general headings:

• Geology and soils;

• Water resources;

• Wetlands and vegetation;

• Fish and wildlife;

• Threatened and endangered species;

• Land use, recreation, and visual resources;

• Air quality and noise;

• Cultural resources;

• Socioeconomics;

• Reliability and safety; and

• Cumulative environmental impacts.

In the EIS, we will also evaluate possible alternatives to the proposed project or portions of the project, and make recommendations on how to lessen or avoid impacts on affected resources.

Our independent analysis of the issues will be included in a draft EIS. The draft EIS will be mailed to federal, state, and local government agencies; elected officials; environmental and public interest groups; Native American tribes; affected landowners; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

With this notice, we are asking federal, state, and local governmental agencies with jurisdiction and/or special expertise with respect to environmental issues, to express their interest in becoming cooperating agencies for the preparation of the EIS. These agencies may choose to participate once they have evaluated the proposal relative to their responsibilities.

Currently Identified Environmental Issues

The EIS will discuss impacts that could occur as a result of the construction and operation of the proposed project. We have already identified several issues that we think deserve attention based on a preliminary review of the project site, comments filed in response to the April 27, 2007 NOI, and the facility information provided by MEP. This preliminary list of issues may be changed based on your comments and our analysis.

• Potential impacts to water resources, including groundwater and ephemeral, intermittent, and perennial waterbodies.

• Evaluation of temporary and permanent impacts on wetlands and development of appropriate mitigation.

• Potential impacts to fish and wildlife habitat, including potential impacts to federal and state-listed threatened and endangered species.

• Potential impacts to natural vegetative communities, including native prairie and forestland.

• Potential effects on prime farmland soils and soils with a high potential for compaction or erosion.

• Potential impacts to existing land uses, including agricultural and managed forested lands.

• Potential impacts to recreation and special interest areas, including Wetland Reserve Program lands and the Natchez Trace Parkway.

• Potential impacts to residential areas, planned developments, and property values.

• Potential disruption to area businesses associated with construction.

• Potential visual effects of the pipeline easement and aboveground facilities on surrounding areas.

• Potential impacts to local air and noise quality associated with construction and operation.

• Potential impacts to cultural resources and Native American lands.

• Public safety and hazards associated with the transport of natural gas.

• Alternative alignments for the pipeline route and alternative sites for the compressor stations.

• Assessment of the effect of the proposed Project when combined with other past, present, or reasonably foreseeable future actions in the Project area, including the potential cumulative effect of collocating multiple utility rights-of-way.

• Use of the existing and proposed rights-of-way to minimize the need for additional temporary construction workspace and/or reduce the width of the permanent easement.

Public Participation

You can make a difference by providing us with your specific comments or concerns about the proposed project. By becoming a commenter, your concerns will be addressed in the EIS and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of Gas Branch 3, DG2E.

• Reference Docket No. PF07-4-000 on the original and both copies.

• Mail your comments so that they will be received in Washington, DC on or before September 10, 2007.

Please note that we are continuing to experience delays in mail deliveries from the U.S. Postal Service. As a result, we will include all comments that we receive within a reasonable time frame in our environmental analysis of this project. The Commission strongly encourages electronic filing of any comments in response to this Notice of Intent. For information on electronically filing comments, please see the instructions on the Commission's Web site at www.ferc.gov.

Once MEP formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed Project. This includes all landowners along the CenterPoint Lateral who are potential right-of-way grantors, whose property may be used temporarily for Project purposes, or who own property within distances defined in the Commission's regulations of certain aboveground facilities. In addition, this notice is also being sent to potentially affected landowners along other portions of the Project that previously requested to remain on the Project environmental mailing list.

If you received this notice, you are on the environmental mailing list for this project. If you do not want to send comments at this time, but still want to remain on our mailing list, please return the Information Request (Appendix 2). If you do not return the Information Request, you will be removed from the Commission's environmental mailing list. Please note that interested individuals who previously responded to the April 27, 2007 NOI with a request to stay on the environmental mailing list need not reply again.

Availability of Additional Information

Additional information about the project is available from the Commission's Office of External Affairs, at 1-866-208-FERC (3372). Additional information can also be found on the Internet at www.ferc.gov. The “eLibrary link” on the FERC Web site provides access to documents submitted to and issued by the Commission, such as comments, orders, notices and rulemakings. Once on the FERC Web site, click on the “eLibrary link,” select “General Search” and in the “Docket Number” field enter the project docket number excluding the last three digits (i.e., PF07-4). When researching information be sure to select an appropriate date range. In addition, the FERC now offers a free e-mail service called eSubscription that allows you to keep track of all formal issuances and submittals in specific dockets. This can reduce the amount of time you spend researching proceedings by automatically providing you with notification of these filings, document summaries and direct links to the documents. To register for this service, go to www.ferc.gov/esubscribenow.htm. For assistance, please contact FERC Online Support at FERCOnlineSupport@ferc.gov or toll free at 1-866-208-3676, or TTY, contact 1-202-502-8659.

Public meetings or site visits will be posted on the Commission's calendar located at www.ferc.gov/EventCalendar/EventsList.aspx) along with other related information.

Finally, MEP has established an Internet Web site for this Project at www.midcontinentexpress.com. The Web site includes a description of the Project, a map of the proposed pipeline route, and answers to frequently asked questions. You can also request additional information or provide comments directly to MEP at 1-877-327-5515 or pipelineinfo@midcontinentexpress.com.

Kimberly D. Bose,
Secretary.

[FR Doc. E7-16383 Filed 8-20-07; 8:45 am]

BILLING CODE 6717-01-P